DEPARTMENT OF ENERGY

Federal Regulatory Commission

[Docket No. RP00-30-006]

ANR Pipeline Company; Notice of Motion To Place Rate Schedule FTS-3 Into Effect April 1, 2000

April 18, 2000.

Take notice that, on April 12, 2000, ANR Pipeline Company (ANR) tendered for filing as part of its FERC Gas Tariff, Second Revised Volume No. 1, a motion to place rate schedule FTS-3 into effect and the following revised tariff sheets as listed in Appendix A to the filing, to be effective April 1, 2000.

ANR states that this filing is made in compliance with the Commission's Order dated March 30, 2000 in the captioned proceeding.

ANR states that copies of the filing have been mailed to all affected customers and state regulatory commissions.

Any person desiring to protest this filing should file a protest with the Federal Energy Regulatory Commission, 888 First Street, NE, Washington, DC 20426, in accordance with Section 385.211 of the Commission's Rules and Regulations. All such protests must be filed on or before April 25, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-10103 Filed 4-21-00; 8:45 am]

BILLING CODE 6717-01-M